DEPARTMENT OF DEFENSE

Department of the Navy

Notice of Availability of Government-Owned Inventions; Available for Licensing

AGENCY: Department of the Navy, DoD.

ACTION: Notice.

SUMMARY: The Department of the Navy hereby gives notice of the availability of exclusive or partially exclusive licenses to practice worldwide under the following pending patents. Any license granted shall comply with 35 U.S.C. 209 and 37 CFR part 404. Applications will be evaluated utilizing the following criteria: Ability to manufacture and market the technology; manufacturing and marketing ability; time required to bring technology to market and production rate; royalties; technical capabilities; and small business status.

Patent application Serial Number 10/681,627 “Methods for Modulating T Cell Responses by Manupulating Intracellular Signal Transduction” filed 8 October 2003; Patent number 6,632,789 “Methods for Modulating T Cell Responses by Manipulating Intracellular Signal Transduction” issued 14 October 2004; and their related foreign filings.

DATES: Applications for a non-exclusive, exclusive or partially exclusive license may be submitted at any time from the date of this notice.

ADDRESSES: Submit application to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone: 301-319-7428 or E-mail at: Charles.schlagel@med.navy.mil.

Dated: December 8, 2008.
T. M. Cruz,
Lieutenant Commander, Office of the Judge Advocate General, U.S. Navy, Federal Register Liaison Officer.

[FR Doc. E8-29582 Filed 12-12-08; 8:45 am]

BILLING CODE 3810-FF-P